ENVIRONMENTAL PROTECTION AGENCY

[ER-FRL-6651-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at (202) 564-7167. An explanation of the ratings assigned to draft environmental impact statements (EISs) was published in FR dated April 2, 2004 (69 FR 17403).

The following EPA Comments should have appeared in the May 28, 2004 Federal Register.

Draft EISs

ERP No. D-AFS-J65410-WY Rating EC2, Upper Green River Area Rangeland Project, Propose Site Specific Grazing Management Practices.

Summary: EPA expressed concerns relating to impacts from livestock grazing to streams and riparian zones; water quality impacts from sediment, bacteria, temperature modification; conflict between livestock, recreation and wildlife uses; impacts to endangered, threatened and sensitive fish and wildlife and their habitats; and degraded range conditions. EPA recommended modification of the Proposed Action by reducing or eliminating grazing impacts near important aquatic resources, to work with permittees and other stakeholders, and to develop an adaptive management monitoring plan.

ERP No. D-AFS-L65441-OR Rating EC2, Easy Fire Recovery Project and Proposed Nonsignificant Forest Plan Amendments, Timber Salvage, Future Fuel Reduction, Road Reconstruction and Maintenance, Road Closure, Tree Planting and Two Non-significant Forest Plan Amendments, Implementation, Malheur National Forest, Prairie City Ranger District, Grant County.

Summary: EPA expressed environmental concerns about potential impacts of salvage logging on surface water quality and surface water temperature.

ERP No. D-AFS-L65449-AK Rating EC2, Couverden Timber Sales, Harvesting Timber, NPDES, Coast Guard Bridge Permit, U.S. Army COE Section 10 and 404 Permits, Tongass National Forest, Juneau Ranger District, Chilkat Peninsula, AK.

Summary: EPA expressed concerns about the effect of new forest roads on water quality and requested that the Forest Service consider the closure of more existing and new roads following harvest. EPA also requested that the Forest Service consider selecting Alternative 5, which avoids clear cutting and does not propose new forest roads.

ERP No. D-AFS-L65452-ID Rating EC2, South Fork Wildfire Salvage Project, Harvesting Fire-Killed and Imminently Dead Trees, Cascade Ranger District, Boise National Forest, Valley County, ID.

Summary: EPA expressed environmental concerns over potential salvage impacts to water quality, and requested that the EIS consider measures proposed in alternatives eliminated from consideration to further reduce impacts. EPA also requested that the EIS document potential project effects to Native Americans.

ERP No. D-NPS-F08011-WI Rating LO, Arrowhead-Weston Transmission Line Right-of-Way Crossing of the St. Croix National Scenic Riverway, U.S. Army COE Section 10 and 404 Permits, Washburn County, WI.

Summary: EPA has no objection to the proposed action.

ERP No. D-NPS-G65017-TX Rating LO, Rio Grande Wild and Scenic River General Management Plan, Implementation, Big Bend National Park, Brewster and Terrell Counties, TX.

Summary: EPA has no objection to the selection and implementation of the preferred alternative as described in the DEIS.

ERP No. D-UAF-K11113-00 Rating EC2, Air Force Mission at Johnston Atoll Airfield (Installation) Termination, Implementation, Johnston Atoll is an Unincorporated Territory of the United States.

Summary: EPA expressed concern relating to long-term ecological and health impacts from potential contaminant releases in the environment after a projected failure of the atoll's seawell by 2050. EPA also expressed concern regarding the integrity of waste management units after termination of the Air Force mission.

Final EISs

ERP No. F-AFS-J35006-UT Fox and Crescent Reservoirs Maintenance Project, Dam Structures Operation and Maintenance, Special Use Permit Issuance, High Uintas Wilderness, Ashley National Forest, Uinta Basin, Duchesne County, UT.

Summary: EPA continues to express concerns related to adverse impacts to wilderness values from reservoir operations and maintenance in a designated Wilderness Area.

Dated: May 28, 2004.
Ken Mittelholtz,
Environmental Protection Specialist, Office of Federal Activities.

[FR Doc. 04-12617 Filed 6-3-04; 8:45 am]

BILLING CODE 6560-50-P